DEPARTMENT OF HEALTH AND HUMAN SERVICES

National Institutes of Health

National Cancer Institute; Amended Notice of Meeting

Notice is hereby given of a change in the meeting of the National Cancer Advisory Board and NCI Board of Scientific Advisors, December 7, 2021, 1:00 p.m. to December 9, 2021, 5:00 p.m., National Cancer Institute-Shady Grove, 9609 Medical Center Drive, Rockville, MD 20850 which was published in the Federal Register on October 05, 2021, FR Doc 2021-21666, 86 FR 54990.

This notice is being amended to change the open session end time and agenda on December 7, 2021. There will now only be one NCAB Subcommittee Meeting held on December 7, 2021, the Ad Hoc Subcommittee on Experimental Therapeutics from 1:15 p.m. to 2:15 p.m.

This notice is also being amended to change the open session end times on December 8, 2021 and December 9, 2021. The open session end time on December 8, 2021 has changed from 5:00 p.m. to 5:30 p.m., as such, the meeting will now be held from 1:00 p.m. to 5:30 p.m. The open session end time on December 9, 2021 has changed from 5:00 p.m. to 5:15 p.m., as such, the meeting will now be held from 1:00 p.m. to 5:15 p.m. The meeting is partially closed to the public.

Dated: November 30, 2021.
Melanie J. Pantoja,
Program Analyst, Office of Federal Advisory Committee Policy.

[FR Doc. 2021-26273 Filed 12-2-21; 8:45 am]

BILLING CODE 4140-01-P